DEPARTMENT OF COMMERCE

National Oceanic and Atmospheric Administration

[I.D. 032907B]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Limited Access Privilege (LAP) Program Exploratory Workgroup, in Charleston, SC.

DATES: The meeting will take place April 24-26, 2007. See SUPPLEMENTARY INFORMATION for specific dates and times.

ADDRESSES: The meeting will be held at the Hampton Inn, 678 Citadel Haven Drive, Charleston, SC 29414; telephone: (800) 426-7866 or (843) 571-1200; fax: (843) 853-2186.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: Members of the LAP Program Exploratory Workgroup will meet from 1 p.m.—5 p.m. on April 24, 2007, from 8:30 a.m.—5 p.m. on April 25, 2007, and from 8:30 a.m.—3 p.m. on April 26, 2007. The meeting is being convened to address issues relevant to the Council's consideration of implementing a LAP Program for the commercial snapper grouper fishery in the South Atlantic region.

Items for discussion by the Workgroup include: (1) Presentation regarding the background of the formation of the Workgroup and its role; (2) Presentations on the experiences of other LAP Programs and their success and drawbacks; (3) An overview of the Magnuson Stevens Fishery Conservation and Management Reauthorization Act and implications for LAP Programs; and (4) Review and provide recommendations regarding LAP program goals and objectives for the snapper grouper fishery in the South Atlantic and a draft action plan.

Special Accommodations

These meetings are physically accessible to people with disabilities. Requests for auxiliary aids should be directed to the Council office (see ADDRESSES) 3 days prior to the meetings.

Note: The times and sequence specified in this agenda are subject to change.

Dated: April 2, 2007.
Tracey L. Thompson,
Acting Director, Office of Sustainable Fisheries, National Marine Fisheries Service.

[FR Doc. E7-6356 Filed 4-4-07; 8:45 am]

BILLING CODE 3510-22-S